DEPARTMENT OF ENERGY

Office of Civilian Radioactive Waste Management; Site Recommendation Consideration Process; Correction to Mailing Address for Internal Mail Code

AGENCY: Office of Civilian Radioactive Waste Management, Department of Energy.

ACTION: Notice correcting mail address.

SUMMARY: On November 14, 2001, the Department of Energy (the Department) announced a supplemental comment period for the public to comment on supplemental analyses addressing changes from the proposed to the final regulations for the three Federal Agencies with regulatory authority over Yucca Mountain site in Nevada (66 FR 57049). On November 21, the Department announced the dates and locations for hearings to gather public comments during the supplemental comment period (66 FR 58460). In each of the notices, the internal mail code address was incorrectly printed. The correct address is: Carol Hanlon, U.S. Department of Energy, Yucca Mountain Site Characterization Office (M/S #025), P.O. Box 364629, North Las Vegas, Nevada, 89036-8629. Comments addressed to Ms. Hanlon with the incorrect mail code will still be delivered to her.

Additional information on the Civilian Radioactive Waste Management program may be obtained at the Yucca Mountain web site at www.ymp.gov or by calling 1-800-967-3477.

Issued in Washington, DC on November 21, 2001.
Ronald A. Milner,
Chief Operating Officer.

[FR Doc. 01-29440 Filed 11-26-01; 8:45 am]

BILLING CODE 6450-01-P